DEPARTMENT OF JUSTICE

Antitrust Division

Notice Pursuant to the National Cooperative Research and Production Act of 1993—Optical Internetworking Forum

Notice is hereby given that, on July 22, 2002, pursuant to Section 6(a) of the National Cooperative Research and Production Act of 1993, 15 U.S.C. 4301 et seq. (“the Act”), Optical Internetworking Forum has filed written notifications simultaneously with the Attorney General and Federal Trade Commission disclosing changes in its membership status. The notifications were filed for the purpose of extending the Act's provisions limiting the recovery of antitrust plaintiffs to actual damages under specified circumstances. Specifically, Samsung, Seoul, Republic of Korea; Tsunami Photonics, Dun Laoghaire, Ireland; MergeOptics Gmbh, Berlin, Germany; ASTRI, Kowloon, Hong Kong-China; and Transpera Networks, San Jose, CA, have been added as parties to this venture.

Also, Acorn Networks, Reston, VA; Aerie Networks, Denver, CO, Alidian Networks, San Jose, CA; Alphion, Eatontown, NJ; Appian Communications, Boxborough, MA; Applied Optoelectronics, Sugarland, TX; Atoga Systems, Fremont, CA; Bitmath, Fremont, CA; BrightLink Networks, Sunnyvale, CA; Cenix, Allentown, PA; Cielo Communications, Broomfield, CO; Cinta Networks, Beaverton, OR; CIVCOM, Petach-Tikva, Israel; Corona Optical Systems, Corning, NY; Cplane, Sunnyvale, CA; Crescent Networks, Lowell, MA; CyOptics, Los Angeles, CA; Efficient Channel Coding, Brooklyn Heights, OH; Entridia, Irvine, CA; FirstWave Intelligent Optical Networks, San Jose, CA; Gazillion Bits, Los Altos, CA; GDA Technologies, San Jose, CA; Gemfire, Palo Alto, CA; Genoa, Fremont, CA; Greenfield Networks, Santa Clara, CA; Gtran, Westlake Village, CA; GWS Photonics, Philadelphia, PA; Helic S.A., Alimos, Greece; Kerenix, P.Tikva, Israel; Kestrel Solutions, Mountain View, CA; Kodeos Communications, South Plainfield, NJ; Lambda Crossing, Caesarea, Israel; Laurel Networks, Pittsburgh, PA; Lightbit Corporation, Mountain View, CA; Maple Optical Systems, San Jose, CA; Memlink, Herzelia B, Isreal; MindTree Counsulting Pvt. Ltd, Banashankari, India; Network Photonics, Calgary, Alberta, Canada; Opthos, San Carlos, CA; Optivera, Tel Aviv, Israel; Peregrine Semiconductor, San Diego, CA; Photonami, Inc., Toronto, Ontario, Canada; PicoLight, Boulder CO; Power X Networks, Sale, United Kingdom; Radiant Photonics, Inc., Austin, TX; Redfern Broadband Networks, Sydney, New South Wales, Australia; Silicon Bridge, Fremont, CA; SiPackets, Inc., Fremont, CA; Sparkolor, Santa Clara, CA; Syntera Communications, Fremont, CA; TelOptica, Richardson, TX; TeraBeam Networks, Seattle, WA; Terago Communications, Maple Grove, MN; Transparent Networks, Santa Clara, CA; Trellis Photonics, Yokneam Elite Israel; TriCN Associates, LLC, San Francisco, CA; Valiant Networks, San Jose, CA; Village Networks, Eatontown, NJ; VIPswitch, Brossard, Quebec, Canada; Vivace Networks, San Jose, CA; Yotta Networks, Plano, TX; C Speed Corp., Santa Clara, CA; CIR, Charlottesville, VA; Emperative, Boulder, CO; Geyser Networks, Sunnyvale, CA; Hyperchip, Montreal, Quebec, Canada; Intelliden, Colorado Springs, CO; Jedai Broadband Networks, Red Bank, NJ; Optical Switch, Richardson, TX; Perihelion Associates, Mercerville, NJ; TSRI, Deerfield, IL; White Rock Networks, Dallas, TX; Applied Innovation, Dublin, OH; BellSouth Telecomminications, Atlanta, GA; BT, Ipswich, Suffolk, United Kingdom; Corning Incorporated, Corning, NY; FCI, Dorval, Quebec, Canada; Foundry Networks, San Jose, CA; GlobespanVirata, Cambridge, Cambridgeshire, United Kingdom; Honeywell, Cupertino, CA; Network Associates, Santa Clara, CA; OKI Electric Industry, Tokyo, Japan; Raza Foundries, San Jose, CA; Redback Networks, Vancouver, British Columbia, Canada, Riverstone Networks, Santa Clara, CA; Sorrento Networks, San Diego, CA; Transwitch Corporation, Bedford, MA; TyCom, Eatontown, NJ; WorldCom, Richardson, TX; Nokia, Santa Rosa, CA; Sprint, Westwood, KS; Acelo Semiconductor, Oxnard, CA; API Networks, Inc., Concord, MA; Dynamost, Murray Hill, NJ; Inara Networks, San Jose, CA; Japan Radio Co., Hikakrino-oka, Japan; KAIST, Yusong-gu, Republic of Korea; KPNQwest, Hoeilaart, Belgium; Marvell Technology, Sunnyvale, CA; Matsushita Communication Industrial, Kanagawa, Japan; Norlight Telecommunications, Brookfield, WI; Sonera Carrier Networks Ltd., Oulu, Finland; Tiburon Networks, Andover, MA; VTT Information Technology, Oulu, Finland; Zaiq Technologies, Woburn, MA; Arcor AG & Co., Eschborn, Germany; Fhg—IMK, Sankt Augustin, Germany; Hughes Software Systems Ltd., Haryana, India; and Nakra Labs, North Andover, MA have been dropped as parties to this venture.

The following members have changed their names: CCL to Industrial Technology Research Institute, Hsin Chu, Taiwan; Tality to Cadence Design Systems, Cary, NC; Flextronics Semiconductor to Flextronics, Hillsboro, OR; TILAB S.p.A to Telecom Italia Lab, Torino, Italy; Octillion Communication to Lattice Semiconductor, San Jose, CA; and QOptics to ELEMATICS, Beaverton, OR.

The following members have been involved with mergers: Paracer, Santa Clara, CA has merged into Stratos LightWave, Mountlake Terrace, WA; ONI Systems, San Jose, CA has merged into Ciena, Linthicum, MD; Dorsal Networks, Columbia, MD has merged into Corvis, Columbia, MD; and Octillion Communication, San Jose, CA has merged into Lattice Semiconductor, San Jose, CA.

No other charges have been made in either the membership or planned activity of the group research project. Membership in this group research project remains open, and Optical Internetworking Forum intends to file additional written notification disclosing all changes in membership.

On October 5, 1998, Optical Internetworking Forum filed its original notification pursuant to Section 6(a) of the Act. The Department of Justice published a notice in the Federal Register pursuant to Section 6(b) of the Act on January 29, 1999 (64 FR 4709).

The last notification was filed with the Department on July 22, 2002. A notice was published in the Federal Register pursuant to Section 6(b) of the Act on September 4, 2002 (67 FR 56590).

Constance K. Robinson,
Director of Operations, Antitrust Division.

[FR Doc. 02-30791 Filed 12-04-02; 8:45 am]

BILLING CODE 4410-01-M